DEPARTMENT OF AGRICULTURE

Submission for OMB Review; Comment Request

August 4, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of the Pilot Project for Canned, Frozen, or Dried Fruits and Vegetables in the Fresh Fruit and Vegetable Program.

OMB Control Number: 0584-NEW.

Summary of Collection: Section 4214(c) of the Agriculture Act of 2014 calls for the Secretary of Agriculture to evaluate the Canned, Frozen, or Dried (CFD) Fruits and Vegetables pilot project in the Fresh Fruit and Vegetable Program (FFVP) to address the impact of giving high-need, low-income elementary schools greater flexibility to offer CFD fruits and vegetables in addition to fresh produce. Schools selected for the pilot—elementary schools in low-income areas that have difficulty accessing, preparing, or storing fresh produce—will design and implement their pilots to best suit their needs. The FFVP is intended to improve overall diet quality by teaching children more healthful eating habits.

Need and Use of the Information: The evaluation of the CFD pilot project has four broad study objectives: (1) To examine the impacts on student's fruit and vegetable consumption in pilot schools; (2) To describe the impacts of the pilot on school participants in FFVP; (3) To describe the implementation strategies used by schools; and (4) To describe the acceptance of the pilot by key stakeholders. The evaluation will provide the Food and Nutrition Service (FNS) with the data and essential information needed to answer the study's objectives and research questions.

Description of Respondents: Individuals or household; State, Local or Tribal Government.

Number of Respondents: 24,367.

Frequency of Responses: Reporting: Semi-annually; annually.

Total Burden Hours: 10,125.

Ruth Brown,
Departmental Information Collection Clearance Officer.

[FR Doc. 2014-18727 Filed 8-7-14; 8:45 am]

BILLING CODE 3410-30-P